DEPARTMENT OF LABOR

Employment and Training Administration

[TA-W-54,768]

Crystal Springs Apparel, LLC, Crystal Springs, MS; Notice of Affirmative Determination Regarding Application for Reconsideration

By letter of July 7, 2004, the company official requested administrative reconsideration of the Department of Labor's Notice of Negative Determination Regarding Eligibility to Apply for Worker Adjustment Assistance, applicable to workers of the subject firm. The determination was signed on June 21, 2004 and will soon be published in the Federal Register.

The Department has reviewed the request for reconsideration and will conduct further investigation to determine whether the subject worker group meets the eligibility requirements of the Trade Act of 1974.

Conclusion

After careful review of the application, I conclude that the claim is of sufficient weight to justify reconsideration of the Department of Labor's prior decision. The application is, therefore, granted.

Signed at Washington, DC, this 27th day of July, 2004.
Elliott S. Kushner,
Certifying Officer, Division of Trade Adjustment Assistance.

[FR Doc. 04-18233 Filed 8-9-04; 8:45 am]

BILLING CODE 4510-30-P